GENERAL SERVICES ADMINISTRATION

[Notice-PBS-2017-02; Docket 2017-0002; Sequence 21]

Notice of intent To Prepare a Supplemental Environmental Impact Statement for the San Ysidro Land Port of Entry (LPOE) Modernization and Expansion Project

AGENCY: Public Building Service (PBS), General Services Administration (GSA).

ACTION: Notice of intent; Announcement of meeting.

SUMMARY: Pursuant to the requirements of the National Environmental Policy Act of 1969 (NEPA), the Council on Environmental Quality Regulations, and the GSA Public Buildings Service NEPA Desk Guide, GSA is issuing this notice to advise the public that a Supplemental Environmental Impact Statement (SEIS) will be prepared for the San Ysidro LPOE Modernization and Expansion Project (Project).

DATES: Meeting Date: A public scoping meeting will be held on Wednesday, November 8th, 2017 from 4:00 p.m., Pacific Time (PT), to 6:00 p.m., PT. The meeting will be an informal open house, where visitors may come, receive information, and provide written comments. Agencies and the public are encouraged to provide written comments regarding the scope of the SEIS. Written comments must be received by November 30, 2017.

ADDRESSES: The public scoping meeting will be held at The Front, 147 West San Ysidro Boulevard, San Ysidro, CA 92173. Written comments must be sent to the General Services Administration, Attention: Osmahn Kadri, Regional Environmental Quality Advisor/NEPA Project Manager, 50 United Nations Plaza, Room 3345 Mailbox 9, San Francisco, CA 94102, or via email to osmahn.kadri@gsa.gov.

FOR FURTHER INFORMATION CONTACT: Osmahn A. Kadri, Regional Environmental Quality Advisor/NEPA Project Manager, GSA, Pacific Rim Region, at 415-522-3617. Please also call this number if special assistance is needed to attend and participate in the public scoping meeting.

SUPPLEMENTARY INFORMATION: GSA intends to prepare a SEIS to analyze the potential impacts resulting from proposed modifications and minor design changes to the San Ysidro LPOE Modernization and Expansion Project. The San Ysidro LPOE is located at the terminus of Interstate 5 at the United States-Mexico border in the San Ysidro community of San Diego, California.

Background

A Final Environmental Impact Statement (EIS) and Record of Decision (ROD) were published in September 2009. Both addressed the reconfiguration and expansion of the San Ysidro LPOE in three independent construction phases to improve overall capacity and operational efficiency. In May 2014, GSA published a Final SEIS and ROD that evaluated changed circumstances and proposed modifications to the Project, including (1) the incorporation of northbound pedestrians inspections at the proposed southbound-only pedestrian crossing facility, on the west side of the LPOE, and modification of the phasing/timing of the construction of the pedestrian crossing facility; (2) changes to the development footprint on the west side of the LPOE and design refinements to the Virginia Avenue Transit Center; (3) a change in the number of vehicle lanes and the installation of southbound inspection booths and overhead canopies on the proposed southbound roadway; and (4) minor changes in the design and/or timing of implementation of several Project elements. GSA prepared a Revision to the Final SEIS in August 2015 that addressed minor changes to the alignment of the southbound roadway and employee access road, as well as specific information that was not known or available at the time the Final EIS or Final SEIS were prepared (regarding the details of the on-site wastewater treatment facility).

Phase 1 is complete and included the construction of a pedestrian bridge, additional northbound vehicle lanes and inspection facilities, a new southbound pedestrian crossing facility on the east side of the LPOE, a new bi-directional pedestrian crossing facility on the west side of the LPOE, and the Virginia Avenue Transit Center. Phase 2 is fully funded and involves the construction of new buildings. Phase 3 is fully funded and includes construction of a southbound roadway and associated inspection equipment. Phases 2 and 3 are anticipated to be completed in 2019.

The SEIS will address changes to the Project, which include acquisition of one parcel of land on the east side of the LPOE and incorporation of this additional land area into the LPOE.

Alternatives Under Consideration

Two action alternatives are under consideration in addition to the No-Action Alternative. Alternative 1 would include demolition of the existing building on the acquisition site and expansion of the LPOE pedestrian plaza. Alternative 2 would involve renovating the existing on-site building. The No Action Alternative assumes that the site would not be acquired by GSA and the additional land area would not be incorporated into the LPOE.

Scoping Process

Scoping will be accomplished through a public scoping meeting, direct mail correspondence to appropriate federal, state, and local agencies, and to private organizations and citizens who have previously expressed, or are known to have, an interest in the Project.

Dated: October 23, 2017.
Matthew Jear,
Director, Portfolio Management Division, Pacific Rim Region, Public Buildings Service.

[FR Doc. 2017-23754 Filed 10-31-17; 8:45 am]

BILLING CODE 6820-Y1-P